DEPARTMENT OF DEFENSE

Office of the Secretary

32 CFR Part 88

[Docket ID: DOD-2013-OS-0236]

RIN 0790-AJ17

Transition Assistance Program (TAP) for Military Personnel; Correction

AGENCY: Under Secretary of Defense for Personnel and Readiness, DoD.

ACTION: Interim final rule; correction.

SUMMARY: On Monday, November 30, 2015 (80 FR 74678-74694), the Department of Defense published an interim final rule titled Transition Assistance Program (TAP) for Military Personnel. Subsequent to the publication of the interim final rule, the Department of Defense discovered that the phone number in the FOR FURTHER INFORMATION CONTACT section was not correct.

DATES: This correction is effective on December 8, 2015.

FOR FURTHER INFORMATION CONTACT: Ron Horne, 703-614-8631.

SUPPLEMENTARY INFORMATION: On page 74679, in the first column, the FOR FURTHER INFORMATION CONTACT section is revised to correct the phone number to read as set forth above.

Dated: December 2, 2015.
Aaron Siegel,
Alternate OSD Federal Register Liaison Officer, Department of Defense.

[FR Doc. 2015-30839 Filed 12-7-15; 8:45 am]

BILLING CODE 5001-06-P